DEPARTMENT OF COMMERCE

International Trade Administration

[A-570-831]

Fresh Garlic From the People's Republic of China: Rescission of Antidumping Duty New Shipper Review; 2021-2022

AGENCY: Enforcement and Compliance, International Trade Administration, Department of Commerce.

SUMMARY: Based upon a timely withdrawal of the new shipper review (NSR) request, the Department of Commerce (Commerce) is rescinding this NSR covering the antidumping duty order on fresh garlic from the People's Republic of China (China) during the period of review of November 1, 2021, through October 31, 2022.

DATES: Applicable February 22, 2023.

FOR FURTHER INFORMATION CONTACT: Charles DeFilippo, AD/CVD Operations, Office VII, Enforcement and Compliance, International Trade Administration, U.S. Department of Commerce, 1401 Constitution Avenue NW, Washington, DC 20230; telephone: (202) 482- 3797.

SUPPLEMENTARY INFORMATION:

Background

Based on a timely request for review, Commerce initiated an NSR of Jining Huahui International Co., Ltd. (Huahui) for the period of November 1, 2021, through October 31, 2022, pursuant to section 751(a)(2)(B) of the Tariff Act of 1930, as amended and 19 CFR 351.214(d).¹ The request for this review has been timely withdrawn.²

¹ See Fresh Garlic from the People's Republic of China: Initiation of Antidumping Duty New Shipper Review, 88 FR 858 (January 5, 2023).

² See Huahui's Letter, “Withdrawal of Request for New Shipper Review,” dated January 17, 2023.

Scope of the Order ³

³ See Antidumping Duty Order: Fresh Garlic from the People's Republic of China, 59 FR 59209 (November 16, 1994) (Order).

The products covered by the Order are all grades of garlic, whether whole or separated into constituent cloves. For a complete description of the scope, see Order.

Rescission of Review

On January 17, 2023, Huahui withdrew its request for an NSR of Huahui's entries of fresh garlic from t China during the period of review of November 1, 2021, through October 31, 2022. Pursuant to 19 CFR 351.214(f)(1), Commerce will rescind an NSR if a producer or exporter that requested a review withdraws its request no later than 60 days after the date of publication of the notice of initiation of the requested review. Huahui withdrew its request within 60 days of the date of publication of the notice of initiation for the requested review. No other parties requested an NSR for the period noted above. Therefore, in accordance with 19 CFR 351.214(f)(1), Commerce is rescinding the NSR in its entirety.

Assessment Rates

Commerce does not intend to instruct U.S. Customs and Border Protection to liquidate the relevant entries because the entries are subject to the administrative review covering the period November 1, 2021, through October 31, 2022, initiated on January 3, 2023.⁴

⁴ See Initiation of Antidumping and Countervailing Duty Administrative Reviews, 88 FR 50, 54 (January 3, 2023).

Cash Deposit Requirements

Because we are rescinding this NSR, we are not determining a company-specific cash deposit rate for Huahui in this review. Hauhui continues to be part of the China-wide entity and is, therefore, subject to the China-wide entity cash deposit rate.

Administrative Protective Order

This notice serves as a reminder to parties subject to an administrative protective order (APO) of their responsibility concerning the return or destruction of proprietary information disclosed under an APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

We are issuing and publishing this rescission in accordance with 19 CFR 351.214(f)(3).

Dated: February 14, 2023.
James Maeder,
Deputy Assistant Secretary for Antidumping and Countervailing Duty Operations.

[FR Doc. 2023-03653 Filed 2-21-23; 8:45 am]

BILLING CODE 3510-DS-P